SECURITIES AND EXCHANGE COMMISSION

Sunshine Act Meeting

Notice is hereby given, pursuant to the provisions of the Government in the Sunshine Act, Public Law 94-409, that the Securities and Exchange Commission Investor Advisory Committee will hold a meeting on Thursday, July 10, 2014, in Multi-Purpose Room LL-006 at the Commission's headquarters, 100 F Street NE., Washington, DC. The meeting will begin at 10 a.m. (ET) and will be open to the public. Seating will be on a first-come, first-served basis. Doors will open at 9:30 a.m. Visitors will be subject to security checks. The meeting will be webcast on the Commission's Web site at www.sec.gov.

On June 23, 2014, the Commission issued notice of the Committee meeting (Release No. 33-9603), indicating that the meeting is open to the public (except during portions of the meeting reserved for meetings of the Committee's subcommittees), and inviting the public to submit written comments to the Committee. This Sunshine Act notice is being issued because a quorum of the Commission may attend the meeting.

The agenda for the meeting includes: Remarks from Commissioners; a public administrative session; a discussion of the definition of accredited investor (which may include a recommendation of the Investor as Purchaser subcommittee); a discussion of elder fraud; a briefing by Commission staff on market structure and the proposed Market Structure Advisory Committee; and nonpublic subcommittee meetings.

For further information, please contact the Office of the Secretary at (202) 551-5400.

Dated: June 25, 2014.
Kevin M. O'Neill,
Deputy Secretary.

[FR Doc. 2014-15277 Filed 6-25-14; 4:15 pm]

BILLING CODE 8011-01-P